DEPARTMENT OF AGRICULTURE

Animal and Plant Health Inspection Service

[Docket No. APHIS-2006-0090]

Plant Protection and Quarantine Export-Related Services and Procedures

Correction

In notice document 06-5799 beginning on page 37032 in the issue of Thursday, June 29, 2006, make the following corrections:

1. On page 37033, in the second column, in footnote 1, in the second and third lines, “http://www.wto.org/enligh/docs_e/legal_e/legal_e.htm” should read “http://www.wto.org/english/docs_e/legal_e/legal_e.htm”.

2. On page 37036, in the third column, in footnote 8, in the second line, “Cnada” should read “Canada”.

[FR Doc. C6-5799 Filed 7-11-06; 8:45 am]

BILLING CODE 1505-01-D

FEDERAL RESERVE SYSTEM

[Docket No. OP-1259]

Policy on Payments System Risk

Correction

In notice document 06-5843 beginning on page 36800 in the issue of Wednesday, June 28, 2006, make the following correction:

On page 36804, in the second column, under the heading “VII. Federal Reserve Policy on Payments System Risk”, after entry I.C.2., add an entry I.C.3. to read as follows:

“3. Self-Assessments by Systemically Important Systems”.

[FR Doc. C6-5843 Filed 7-11-06; 8:45 am]

BILLING CODE 1505-01-D

DEPARTMENT OF HOUSING AND URBAN DEVELOPMENT

Office of Federal Housing Enterprise Oversight

12 CFR Part 1750

RIN 2550-AA35

Risk-Based Capital Regulation Amendment

Correction

In proposed rule document 06-5330 beginning on page 36231 in the issue of Monday, June 26, 2006, make the following corrections:

1. On pages 36235 and 36236, Table 3-4 is being reprinted in its entirety to read as follows:

Table 3-4.—Additional Multifamily Loan Classification Variables
Variable | Description | Range
Multifamily Product Code | Identifies the mortgage product types for multifamily loans | Fixed Rate Fully Amortizing Adjustable Rate Fully Amortizing 5 Year Fixed Rate Balloon
|  | 7 Year Fixed Rate Balloon
|  | 10 Year Fixed Rate Balloon
|  | 15 Year Fixed Rate Balloon
|  | Balloon ARM Other
New Book Flag | “New Book” is applied to Fannie Mae loans acquired beginning in 1988 and Freddie Mac loans acquired beginning in 1993, except for loans that were refinanced to avoid a default on a loan originated or acquired earlier | New Book Old Book
Ratio Update Flag | Indicates if the LTV and DCR were updated at origination or at Enterprise acquisition | Yes No
Current DCR | Assigned classes for the Debt Service Coverage Ratio based on the most recent annual operating statement | DCR<1.00 1.00<=DCR<1.10 1.10<=DCR<1.20 1.20<=DCR<1.30 1.30<=DCR<1.40 1.40<=DCR<1.50
|  | 1.50<=DCR<1.60
|  | 1.60<=DCR<1.70
|  | 1.70<=DCR<1.80
|  | 1.80<=DCR<1.90
|  | 1.90<=DCR<2.00
|  | 2.00<=DCR<2.50
|  | 2.50<=DCR<4.00
|  | DCR>=4.00
Prepayment Penalty Flag | Indicates if prepayment of the loan is subject to active prepayment penalties or yield maintenance provisions | Yes No

2. On pages 36245 and 36246, Table 3-32 is being reprinted in its entirety to read as follows:

Table 3-32—Loan Group Inputs for Mortgage Amortization Calculation
Variable* | Description | Source
| Rate Type (Fixed or Adjustable) | RBC Report
| Product Type (30/20/15-Year FRM, ARM, Balloon, Government, etc.) | RBC Report
UPBORIG | Unpaid Principal Balance at Origination (aggregate for Loan Group) | RBC Report
UPB0 | Unpaid Principal Balance at start of Stress Test (aggregate for Loan Group) | RBC Report
MIR0 | Mortgage Interest Rate for the Mortgage Payment prior to the start of the Stress Test, or Initial Mortgage Interest Rate for new loans (weighted average for Loan Group) (expressed as a decimal per annum) | RBC Report
PMT0 | Amount of the Mortgage Payment (Principal and Interest) prior to the start of the Stress Test, or first payment for new loans (aggregate for Loan Group) | RBC Report
AT | Original loan Amortizing Term in months (weighted average for Loan Group) | RBC Report
RM | Remaining term to Maturity in months (i.e., number of contractual payments due between the start of the Stress Test and the contractual maturity date of the loan) (weighted average for Loan Group) | RBC Report
A0 | Age immediately prior to the start of the Stress Test, in months (weighted average for Loan Group) | RBC Report
| Interest-only Flag | RBC Report
RIOP | Remaining Interest-only period, in months (weighted average for loan group) | RBC Report
Additional Interest Rate Inputs
GFR | Guarantee Fee Rate (weighted average for Loan Group) (decimal per annum) | RBC Report
SFR | Servicing Fee Rate (weighted average for Loan Group) (decimal per annum) | RBC Report
Additional Inputs for ARMs (weighted averages for Loan Group, except for Index)
INDEXm | Monthly values of the contractual Interest Rate Index | section 3.3, Interest Rates
LB | Look-Back period, in months | RBC Report
MARGIN | Loan Margin (over index), decimal per annum | RBC Report
RRP | Rate Reset Period, in months | RBC Report
| Rate Reset Limit (up and down), decimal per annum | RBC Report
| Maximum Rate (life cap), decimal per annum | RBC Report
| Minimum Rate (life floor), decimal per annum | RBC Report
NAC | Negative Amortization Cap, decimal fraction of UPBORIG | RBC Report
| Unlimited Payment Reset Period, in months | RBC Report
PRP | Payment Reset Period, in months | RBC Report
| Payment Reset Limit, as decimal fraction of prior payment | RBC Report
IRP | Initial Rate Period, in months | RBC Report
*Variable name is given when used in an equation

[FR Doc. C6-5330 Filed 7-11-06; 8:45 am]

BILLING CODE 1505-01-D